DEPARTMENT OF JUSTICE

Notice of Lodging of Consent Decree Under the Comprehensive Environmental Response, Compensation, and Liability Act

Notice is hereby given that on July 16, 2009, a proposed de minimis party consent decree (“Consent Decree”) in United States, et al. v. George A. Whiting Paper Co., et al., Civil Action No. 1:09-cv-00692 was lodged with the United States District Court for the Eastern District of Wisconsin.

In this action the United States and the State of Wisconsin sought to recover unreimbursed costs incurred for response activities undertaken in response to the release and threatened release of hazardous substances from facilities at and near the Lower Fox River and Green Bay Site in northeastern Wisconsin and damages for injury to, loss of, or destruction of natural resources in order to compensate for and restore natural resources injured by the release of hazardous substances into the environment at the Site.

The eleven settling defendants are: George A. Whiting Paper Co.; Green Bay Metropolitan Sewerage District; Green Bay Packaging, Inc.; Heart of the Valley Metropolitan Sewerage District; International Paper Co.; Lafarge North America Inc.; Leicht Transfer & Storage Co.; Neenah Foundry Co.; The Procter & Gamble Paper Products Co., Union Pacific Railroad Co.; and Wisconsin Public Service Corp. The Consent Decree reflects the conclusion of the United States and the State of Wisconsin that each of the Settling Defendants qualifies for treatment as a CERCLA Section 122(g) de minimis party. The proposed Consent Decree requires the Settling Defendants to make a collective payment of $1,875,000.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States, et al. v. George A. Whiting Paper Co., et al., D.J. Ref. 90-11-2-1045/7.

The Consent Decree may be examined at the Office of the United States Attorney, Eastern District of Wisconsin, 530 Federal Building, 517 East Wisconsin Avenue, Milwaukee, WI 53202, and at U.S. EPA Region Region 5, 77 West Jackson Blvd., Chicago, IL 60604. During the public comment period, the Consent Decree may also be examined on the following Department of Justice Web site, http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $10.75 (25 cents per page reproduction cost) payable to the U.S. Treasury or, if by e-mail or fax, forward a check in that amount to the Consent Decree Library at the stated address.

Maureen Katz,
Assistant Chief, Environmental Enforcement Section, Environment and Natural Resources Division.

[FR Doc. E9-17489 Filed 7-21-09; 8:45 am]

BILLING CODE 4410-15-P